OFFICE OF THE UNITED STATES TRADE REPRESENTATIVE

Request for Comments on Suspending Section 301 Action for One Year: China's Targeting of the Maritime, Logistics, and Shipbuilding Sectors for Dominance

AGENCY: Office of the United States Trade Representative (USTR).

ACTION: Request for comments.

SUMMARY: On November 1, 2025, the White House announced a historic trade and economic deal reached between President Trump and President Xi Jinping of China. Pursuant to this deal, the United States Trade Representative, at the direction of the President, is proposing to suspend for one year, beginning on November 10, 2025, the responsive actions taken in this investigation. This notice announces the opening of a public comment docket for interested parties to comment on the proposed modification to suspend the actions in this investigation.

DATES:

November 6, 2025, 12:00 p.m. Eastern Standard Time: Comment period opens.

November 7, 2025, 5:00 p.m. Eastern Standard Time: To be assured of consideration, submit written comments regarding the proposed modification of the action by this date.

FOR FURTHER INFORMATION CONTACT: Philip Butler, Chair of the Section 301 Committee; Thomas Au, Associate General Counsel; or David Salkeld, Assistant General Counsel at (202) 395-5725.

SUPPLEMENTARY INFORMATION:

I. Background

For background on the proceedings in this investigation, please see the prior notices issued in this investigation, including 89 FR 29424 (April 22, 2024), 90 FR 8089 (January 23, 2025), 90 FR 10843 (February 27, 2025), 90 FR 17114 (April 23, 2025) (April 23 notice), 90 FR 24856 (June 12, 2025), and 90 FR 48320 (October 16, 2025) (October 16 notice).

On April 17, 2025, pursuant to sections 301(b), 301(c), and 304(a) of the Trade Act of 1974, as amended (19 U.S.C. 2411(b), 2411(c), and 2414(a)), and following consideration of public comments, as well as consultations with advisory committees and the Section 301 Committee, the U.S. Trade Representative determined to take action in this investigation. See April 23 notice.

On October 10, pursuant to section 307(a), and following consideration of public comments, as well as consultations with advisory committees and the Section 301 Committee, the U.S. Trade Representative determined to modify the action. The modifications included changes to certain aspects of Annexes III and IV of the April 23 notice, as well as imposition of duties on ship-to-shore cranes and on certain cargo handling equipment of China as described in Annex V.A of the October 16 notice. See October 16 notice.

II. Request for Comments

The United States is engaging with China with the goal of obtaining the elimination of the acts, policies, and practices covered in the investigation.

On November 1, 2025, the White House announced a historic trade and economic deal reached between President Trump and President Xi Jinping of China.¹ Pursuant to this deal, the United States would suspend for one year, beginning on November 10, 2025, the responsive actions taken in this investigation. The United States also would negotiate with China pursuant to Section 301 regarding the issues raised in this investigation. While taking these actions, the United States would continue its domestic efforts and its discussions with key allies and partners on revitalizing American shipbuilding.

¹ Fact Sheet, The White House, President Donald J. Trump Strikes Deal on Economic and Trade Relations with China (Nov. 1, 2025), https://www.whitehouse.gov/fact-sheets/2025/11/fact-sheet-president-donald-j-trump-strikes-deal-on-economic-and-trade-relations-with-china/.

The United States Trade Representative, at the direction of the President, is therefore proposing to suspend for one year, beginning on November 10, 2025, the responsive actions taken in this investigation. The Trade Representative is requesting comments from any interested person regarding the proposal to suspend the responsive actions from 12:01 a.m. Eastern Standard Time on November 10, 2025, through 11:59 p.m. Eastern Standard Time on November 9, 2026.

During the suspension period, no party would accrue liability for or be required to pay the fees on maritime transport services under Annexes I, II, or III of the April 23 notice, as modified by the October 16 notice. Further, during the suspension period, no party would accrue liability for or be required to pay the duties provided in Annex V.A of the October 16 notice.

III. Request for Public Comments

In accordance with Section 307(a)(2)(b) of the Trade Act (19 U.S.C. 2414(b)), and consistent with specific direction of the President, as well as the deal reached between the United States and China on November 1, 2025, USTR invites comments from interested persons with respect to the proposed suspension as described in Section II above. To be assured of consideration, you must submit written comments on the proposed modifications by November 7, 2025, at 5:00 p.m. Eastern Standard Time.

IV. Procedures for Written Comments

You must submit written comments and rebuttal comments using docket number USTR-2025-0274 on the electronic portal at https://comments.ustr.gov/s/. To submit written comments, use the docket on the portal entitled “Request for Comments Concerning the Suspension of Action in the Section 301 Investigation of China's Targeting of the Maritime, Logistics, and Shipbuilding Sectors for Dominance.”

You do not need to establish an account to submit comments. The first screen of each docket allows you to enter identification and contact information. Third party organizations such as law firms, trade associations, or customs brokers, should identify the full legal name of the organization they represent, and identify the primary point of contact for the submission. Information fields are optional; however, your comment or request may not be considered if insufficient information is provided. Fields with a gray Business Confidential Information (BCI) notation are for BCI information which will not be made publicly available. Fields with a green (Public) notation will be viewable by the public.

After entering the identification and contact information, you can complete the remainder of the comment, or any portion of it by clicking `Next.' You may upload documents at the end of the form and indicate whether USTR should treat the documents as business confidential or public information.

Any page containing BCI must be clearly marked `BUSINESS CONFIDENTIAL' on the top of that page and the submission should clearly indicate, via brackets, highlighting, or other means, the specific information that is BCI. If you request business confidential treatment, you must certify in writing that disclosure of the information would endanger trade secrets or profitability, and that the information would not customarily be released to the public.

Parties uploading attachments containing BCI also must submit a public version of their comments. If these procedures are not sufficient to protect BCI or otherwise protect business interests, please contact the USTR Section 301 support line at 202.395.5725 to discuss whether alternative arrangements are possible.

USTR will post attachments uploaded to the docket for public inspection, except for properly designated BCI. You can view submissions on USTR's electronic portal at https://comments.ustr.gov/s/ by entering docket numbers USTR-2025-0274 in the search field on the home page.

Jennifer Thornton,
General Counsel, Office of the United States Trade Representative.

[FR Doc. 2025-19839 Filed 11-6-25; 4:15 pm]

BILLING CODE 3390-F4-P